DEPARTMENT OF HOUSING AND URBAN DEVELOPMENT

[Docket No. FR-5415-N-31]

Notice of Availability: Notice of Funding Availability (NOFA) for Fiscal Year 2010; Special Needs Assistance Programs (SNAPS) Technical Assistance; Request for Qualifications

AGENCY: Office of the Chief of the Human Capital Officer, HUD.

ACTION: Notice.

SUMMARY: HUD announces the availability of the applicant information, deadline information, and other requirements for the Fiscal Year (FY) 2010 Special Needs Assistance Programs Technical Assistance (SNAPS-TA) Program NOFA. The SNAPS-TA NOFA makes available up to $11.1 million for technical assistance; approximately $9.9 million under HUD McKinney-Vento Technical Assistance for homeless assistance programs, Homeless Management Information System (HMIS) data collection, reporting and research, including the Annual Homeless Assessment Report (AHAR) TA activities; and approximately $1.2 million under the American Recovery and Reinvestment Act for Homelessness Prevention and Rapid Re-Housing Program (HPRP) TA activities. Carried over or recaptured funds from previous fiscal years, if available, may be added to this amount.

The SNAPS-TA NOFA providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) numbers for the SNAPS-TA are: 14.261 McKinney-Vento Homeless Technical Assistance and 14.262 HPRP Technical Assistance. Applications must be submitted electronically through Grants.gov.

FOR FURTHER INFORMATION CONTACT: Questions regarding specific program requirements should be directed to the agency contact identified in the program NOFA. Questions regarding the 2010 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339.

Dated: October 22, 2010.
Barbara S. Dorf,
Director, Office of Departmental Grants Management and Oversight, Office of the Chief of the Human Capital Officer.

[FR Doc. 2010-27308 Filed 10-27-10; 8:45 am]

BILLING CODE 4210-67-P